DEPARTMENT OF HEALTH AND HUMAN SERVICES

Food and Drug Administration

Drug Safety and Risk Management Advisory Committee; Notice of Postponement

AGENCY: Food and Drug Administration, HHS.

ACTION: Notice.

SUMMARY: The Food and Drug Administration (FDA) is postponing the meeting of the Drug Safety and Risk Management Advisory Committee scheduled for September 18, 2003, due to Hurricane Isabel. This meeting was announced in the Federal Register of June 30, 2003 (68 FR 38713). An amendment to the notice of meeting was announced in the Federal Register of July 23, 2003 (68 FR 43534). The future date for this meeting is to be determined.

FOR FURTHER INFORMATION CONTACT: Shalini Jain, Center for Drug Evaluation and Research (HFD-21), Food and Drug Administration, 5600 Fishers Lane (for express delivery, 5630 Fishers Lane, rm. 1093), Rockville, MD 20857, 301-827-7001, FAX: 301-827-6776, e-mail: JAINS@CDER.FDA.GOV, or FDA Advisory Committee Information Line, 1-800-741-8138 (301-443-0572 in the Washington, DC area), code 12535. Please call the Information Line for up-to-date information on this meeting.

Dated: September 26, 2003.
Peter J. Pitts,
Associate Commissioner for External Relations.

[FR Doc. 03-24925 Filed 10-1-03; 8:45 am]

BILLING CODE 4160-01-S